DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration, Office of Workers' Compensation Programs (OWCP) is soliciting comments concerning the following proposed collection: Certificate of Medical Necessity (CM-893). A copy of the proposed information collection request can be obtained by contacting the office listed below in the addressee section of this Notice.

DATES: Written comments must be submitted to the office listed in the addressee section below on or before August 19, 2002.

ADDRESSES: Ms. Patricia A. Forkel, U. S. Department of Labor, 200 Constitution Ave., NW., Room S-3201, Washington, DC 20210, telephone (202) 693-0339, fax (202) 693-1451, EMail pforkel@fenix2.dol-esa.gov. Please use only one method of transmission for comments (mail, fax, or EMail).

SUPPLEMENTARY INFORMATION:

I. Background

30 U.S.C. 932 includes section 7 of Public Law 803, as amended, and stipulates that medical treatment including services and apparatus, as required, will be furnished to the miner for such period as the nature of the illness or process of recovery may require. 20 CFR 725.701 establishes miner eligibility for medical services and supplies for the length of time required by the miner's condition and disability. 20 CFR 725.706 stipulates there must be prior approval before ordering an apparatus where the purchase price exceeds $300.00. 20 CFR 725.707 provides for the ongoing supervision of the miner's medical care, including the necessity, character and sufficiency of care to be furnished; gives the authority to request medical reports and indicates the right to refuse payment for failing to submit any report required. Because of the above legislation and regulations, it was necessary to devise a form to collect the information. The form is the CM-893, Certificate of Medical Necessity (CMN). It is used by OWCP to determine reimbursement of medical benefits to Black Lung beneficiaries. Regulatory authority for the collection of this information is at 20 CFR 725.506, 510, 511, and 513. The information collection is currently approved by the Office of Management and Budget (OMB) for use through November 2002.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

Current Actions

The Department of Labor seeks an extension of approval to collect this information in order to carry out its responsibility in determining the eligibility for reimbursement of medical benefits to Black Lung recipients. The CMN (CM-893) is considered a medical prescription that requires pre-authorization. There is no change to these forms since the last OMB approval.

Type of Review: Extension.

Agency: Employment Standards Administration.

Titles: Certificate of Medical Necessity.

OMB Number: 1215-0113.

Agency Numbers: CM-893.

Affected Public: Businesses or other for-profit; not-for-profit institutions.

Total Respondents/Responses: 12,000.

Total Hours: 3,600.

Total Burden Cost (capital/startup): $0.

Total Burden Cost (operation/maintenance): $0.

Comments submitted in response to this notice will be summarized and/or included in the request for Office of Management and Budget approval of the information collection request; they will also become a matter of public record.

Dated: June 14, 2002.
Margaret J. Sherrill,
Chief, Branch of Management Review and Internal Control, Division of Financial Management, Office of Management, Administration and Planning, Employment Standards Administration.

[FR Doc. 02-15556 Filed 6-19-02; 8:45 am]

BILLING CODE 4510-27-P